LIBRARY OF CONGRESS

Copyright Office

37 CFR Part 201

[Docket No. 2012-1]

Copyright Office Fees: Registration, Recordation, and Related Services; Special Services; Licensing Division Services; FOIA Services; Correction

AGENCY: U.S. Copyright Office, Library of Congress.

ACTION: Final rule; correction.

SUMMARY: On March 24, 2014, the United States Copyright Office published a final rule concerning fees for Office services. The fee for a particular service did not change, but was inadvertently omitted from the schedule of fees in the final rule. The office hereby corrects that omission.

DATES: Effective on May 1, 2014.

FOR FURTHER INFORMATION CONTACT: Jacqueline C. Charlesworth, General Counsel and Associate Register of Copyrights or Chris Weston, Attorney-Advisor, Office of the General Counsel, at the U.S. Copyright Office, Copyright GC/I&R, P.O. Box 70400, Washington, DC 20024. Telephone: (202) 707-8350.

SUPPLEMENTARY INFORMATION: On March 24, 2014, the Copyright Office published a final rule in the Federal Register (79 FR 15910) replacing the current Copyright Office fee schedule with a new one to take effect on May 1, 2014. Among other things, this rule revised 37 CFR 201.3(c)(9) so that the fee for “Registration of a correction or amplification to a claim” increased from $100 to $130. Although the existing fee schedule applies the referenced fee to both Forms CA and DC, the fee increase applies only to Form CA; Form DC was inadvertently omitted from the schedule. This correction continues the fee for Form DC of $100, adding it to the new schedule as set forth in § 201.3(c)(9).

Accordingly, in the final rule FR Doc. 2014-6293 published on March 24, 2014 (79 FR 15910), the Office makes the following correction. On page 15918, in the “Registration, recordation, and related services” table, § 201.3(c)(9) is corrected to read as follows:

§ 201.3 Fees for registration, recordation, and related services, special services, and services performed by the Licensing Division.

* * * * *

(c) * * *

Registration, recordation and related services | Fees ($)
* * * * *
(9) Registration of a correction or amplification to a claim.
(Form CA) | $130
(Form DC) | 100
* * * * *

* * * * *

Dated: April 21, 2014.
Maria A. Pallante,
Register of Copyrights.
Approved By:
James H. Billington,
Librarian of Congress.

[FR Doc. 2014-09822 Filed 4-29-14; 8:45 am]

BILLING CODE 1410-30-P